INTERNATIONAL TRADE COMMISSION

[Investigation No. 337-TA-667; Investigation No. 337-TA-673]

In the Matter of Certain Electronic Devices, Including Handheld Wireless Communications Devices; Notice of Commission Determination Not To Review an Initial Determination Terminating the Investigations in Their Entirety

AGENCY: U.S. International Trade Commission.

ACTION: Notice.

SUMMARY: Notice is hereby given that the U.S. International Trade Commission has determined not to review the presiding administrative law judge's (“ALJ”) initial determination (“ID”) (Order No. 55C) in consolidated Inv. Nos. 337-TA-667 and 337-TA-673, Certain Electronic Devices Including Handheld Wireless Communications Devices, granting a motion to terminate the consolidated investigations in their entirety on the basis of settlement agreements.

FOR FURTHER INFORMATION CONTACT: Megan M. Valentine, Office of the General Counsel, U.S. International Trade Commission, 500 E Street, SW., Washington, DC 20436, telephone (202) 708-2301. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted Inv. No. 337-TA-667 (“the 667 Investigation”) on January 23, 2009, based on a complaint filed by Saxon Innovation, LLC of Tyler, Texas (“Saxon”). 74 FR 4231. The complaint, as amended and supplemented, alleges violations of section 337 of the Tariff Act of 1930, as amended, 19 U.S.C. 1337, in the importation into the United States, the sale for importation, and the sale within the United States after importation of certain electronic devices, including handheld wireless communications devices, by reason of infringement of certain claims of U.S. Patent Nos. 5,235,635 (“the `635 patent”); 5,530,597 (“the `597 patent”); and 5,608,873 (“the `873 patent”). The complaint further alleges the existence of a domestic industry related to each patent. The Commission's notice of investigation named various respondents, including Nokia Corporation of Espoo, Finland and Nokia Inc. of Irving, Texas (collectively “Nokia”); High Tech Computer Corp. of Taoyuan, Taiwan and HTC America, Inc. of Bellevue, Washington (collectively “HTC”); Research In Motion Ltd. of Waterloo, Ontario and Research In Motion Corp. of Irving, Texas (collectively “RIM”); and Palm, Inc. of Sunnyvale, California (“Palm”).

The Commission instituted Inv. No. 337-TA-673 (“the 673 Investigation”) on March 31, 2009, based on a complaint filed by Saxon. 74 FR 14578-9. The complaint, as amended and supplemented, alleges violations of section 337 of the Tariff Act of 1930, as amended, 19 U.S.C. 1337, in the importation into the United States, the sale for importation, and the sale within the United States after importation of electronic devices, including handheld wireless communications devices by reason of infringement of certain claims of the `635 patent, the `597 patent, and the `873 patent. The complaint further alleges the existence of a domestic industry related to each patent. The Commission's notice of investigation named as respondents Samsung Electronics Co., Ltd. of Seoul, Korea; Samsung Electronics America, Inc. of Ridgefield Park, New Jersey; and Samsung Telecommunications America, LLP of Richardson, Texas (collectively “Samsung”).

On April 23, 2009, the ALJ issued Order No. 28 in the 667 investigation and Order No. 8 in the 673 investigation, consolidating the investigations. On May 13, 2009, the Commission determined not to review this consolidation.

On April 28, 2009, the Commission determined not to review an ID granting a joint motion filed by Saxon and HTC to terminate the 667 investigation as to respondent HTC. On July 13, 2009, the Commission determined not to review an ID granting a joint motion filed by Saxon and Nokia to terminate the consolidated investigations as to respondent Nokia. On October 22, 2009, the Commission determined not to review an ID granting a joint motion filed by Saxon and RIM to terminate the investigations as to respondent RIM. All terminations were granted pursuant to Commission Rule 210.21(b) (19 CFR 210.21(b)).

On January 29, 2010 Saxon and respondents Samsung and Palm jointly moved to terminate the consolidated investigations in their entirety based upon settlement agreements between the remaining parties in the investigation. On February 4, 2010, the Commission investigative attorney filed a response in support of the motion. On February 12, 2010, the ALJ issued the subject ID, granting the joint motion to terminate the investigations in their entirety pursuant to Commission Rule 210.21(b). No petitions for review were filed.

The Commission has determined not to review the ID.

The authority for the Commission's determination is contained in section 337 of the Tariff Act of 1930, as amended (19 U.S.C. 1337), and in section 210.42 of the Commission's Rules of Practice and Procedure (19 CFR 210.42).

By order of the Commission.
Issued: March 2, 2010.
Marilyn R. Abbott,
Secretary to the Commission.

[FR Doc. 2010-4791 Filed 3-5-10; 8:45 am]

BILLING CODE 7020-02-P